DEPARTMENT OF TRANSPORTATION

National Highway Traffic Safety Administration

[DOT Docket No. NHTSA-2011-0084]

Paperwork Reduction Act of 1995 (44 U.S.C. 3501 et seq.)

AGENCY: National Highway Traffic Safety Administration (NHTSA), Department of Transportation (DOT).

ACTION: Request for public comment on proposed collection of information.

SUMMARY: In compliance with the Paperwork Reduction Act of 1995 (PRA) (44 U.S.C. 3501 et seq.), on June 24, 2011 (76 FR 37189) the agency published a 60-day notice in the Federal Register soliciting public comment on the proposed information collection abstracted below.

In further compliance with the PRA, the agency now publishes this second notice announcing the submission of its proposed collection to the Office of Management and Budget (OMB) for review and notifying the public about how to submit comments on the proposed collection to OMB during the 30-day comment period.

DATES: Comments must be submitted on or before July 23, 2012.

ADDRESSES: You may submit comments [identified by Docket No. DOT-NHTSA-2011-0084] through one of the following methods:

• Internet Submission: http://www.regulations.gov. Follow the online instructions for submitting comments.

• Mail or Hand Delivery: Docket Management Facility, U.S. Department of Transportation, 1200 New Jersey Avenue SE., West Building, Room W12-140, Washington, DC 20590, between 10 a.m. and 5 p.m., Monday through Friday, except on Federal holidays.

FOR FURTHER INFORMATION CONTACT: Ann Burton, NHTSA, 1200 New Jersey Avenue SE., W46-492, NTI-200, Washington, DC 20590. Ms. Burton's telephone number is (202) 366-2685. Please identify the relevant collection of information by referring to its OMB Control Number.

SUPPLEMENTARY INFORMATION: In compliance with these requirements, NHTSA asks for public comments on the following proposed collection of information.

Title: Racial Profiling, State Traffic Data, and Child Booster Seat Grant Program.

OMB Control Number: 2127-0653.

Type of Request: Extension of currently approved collection.

Affected Public: State Governments.

Abstract: The Safe, Accountable, Flexible, Efficient Transportation Equity Act—A Legacy for Users (SAFETEA-LU), Public Law 109-59, authorizes several grant programs covering fiscal years (FY) 2006-2009, to be administered by the National Highway Traffic Safety Administration (NHTSA). Specifically, these grant programs include the following: Section 1906 authorizing a grant program for States that enact and enforce a law that prohibits racial profiling in the enforcement of traffic laws on Federal-aid highways; Section 2006 (codified at 23 U.S.C. 408) authorizing a grant program for States to support the development and implementation of State traffic safety information systems; and Section 2011 authorizing a grant program for States for child safety seats and child booster seats.

Under each program, a State must indicate to NHTSA how it intends to obligate and expend grant funds for each fiscal year, and how grant funds were expended and spent each fiscal year. It is important for NHTSA to be notified about these activities so that it can effectively administer the programs and account for the expenditure of funds. To reduce burdens, a State will document these activities by submitting the information on its Uniform Safety Program Cost Summary Form (HS-217), a form with existing PRA clearance (OMB Control Number 2127-0003). The information is submitted electronically in the agency's grants tracking systems and periodically updated.

Estimated Annual Burden: 5,130.

Estimated Number of Respondents: 56 (fifty States, the District of Columbia, Puerto Rico, the Virgin Islands, Guam, American Samoa, and the Commonwealth of the Northern Mariana Islands) for Section 1906; 57 (fifty States, the District of Columbia, Puerto Rico, the Virgin Islands, Guam, American Samoa, the Commonwealth of the Northern Mariana Islands, and the Bureau of Indian Affairs) for Section 2006 (codified at 23 U.S.C. 408); and 52 (fifty States, the District of Columbia, and Puerto Rico) for Section 2011.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Mary D. Gunnels,
Associate Administrator, Regional Operations and Program Delivery.

[FR Doc. 2012-15240 Filed 6-21-12; 8:45 am]

BILLING CODE 4910-59-P